DEPARTMENT OF COMMERCE

National Oceanic and Atmospheric Administration

Public Meeting of the Ocean Exploration Advisory Board

AGENCY: Office of Oceanic and Atmospheric Research (OAR), National Oceanic and Atmospheric Administration (NOAA), Department of Commerce (DOC).

ACTION: Notice of public meeting.

SUMMARY: This notice sets forth the schedule and proposed agenda for a meeting of the Ocean Exploration Advisory Board (OEAB). OEAB members will discuss and provide advice on Federal ocean exploration programs, with a particular emphasis on the topics identified in the section on Matters to Be Considered.

DATES: The announced meeting is scheduled for Thursday, February 17, 2022 from 9:00 a.m.-5:00 p.m. (EST) and Friday February 18, 2022 from 9:00 a.m.-1:00 p.m. (EST).

ADDRESSES: This will be an in-person meeting. The meeting will be held at the Woods Hole Oceanographic Institution at 86 Water St., Falmouth, MA 02543. Information about how to participate, including Covid-19 related protocols, will be posted to the OEAB website at https://oeab.noaa.gov/.

FOR FURTHER INFORMATION CONTACT: Mr. David Turner, Designated Federal Officer, Ocean Exploration Advisory Board, National Oceanic and Atmospheric Administration, david.turner@noaa.gov or (859) 327-9661.

SUPPLEMENTARY INFORMATION: NOAA established the OEAB under the Federal Advisory Committee Act (FACA) and legislation that gives the agency statutory authority to operate an ocean exploration program and to coordinate a national program of ocean exploration. The OEAB advises NOAA leadership on strategic planning, exploration priorities, competitive ocean exploration grant programs, and other matters as the NOAA Administrator requests.

OEAB members represent government agencies, the private sector, academic institutions, and not-for-profit institutions involved in all facets of ocean exploration—from advanced technology to citizen exploration.

In addition to advising NOAA leadership, NOAA expects the OEAB to help to define and develop a national program of ocean exploration—a network of stakeholders and partnerships advancing national priorities for ocean exploration.

Matters To Be Considered: The OEAB will hear updates from NOAA Ocean Exploration about (1) the status of recommendations for improving Grant Program; (2) the status of NOAA's buildout of a new dedicated ocean exploration vessel; (3) the status of NOAA Ocean Exploration's FY22-27 Strategic Plan; and (4) the status of planning coordinated exploration activities in the Pacific Ocean. The Board will also hear presentations from several subject matter experts about data, technology, and operational requirements that may influence the future of Ocean Exploration. Portions of the meeting may be partially closed to the public based upon provisions of the Government in the Sunshine Act of 1976 (Pub. L. 94-409). The agenda and other meeting materials will be made available on the OEAB website at https://oeab.noaa.gov/.

Status: The meeting will be open to the public with a 15-minute public comment period on Friday, February 18, 2022, from 12:30 p.m.-12:45 p.m. (EST). (Please check the final agenda on the OEAB website to confirm the time). The public may listen to the meeting and provide comments during the public comment period via teleconference. Participation information will be on the meeting agenda on the OEAB website.

The OEAB expects that public statements at its meetings will not be repetitive of previously submitted verbal or written statements. In general, each individual or group making a verbal presentation will be limited to three minutes. The Designated Federal Officer must receive written comments by February 10, 2022, to provide sufficient time for OEAB review. Written comments received after February 10, 2022, will be distributed to the OEAB but may not be reviewed prior to the meeting date. Comments should be submitted to Designated Federal Officer David.Turner@noaa.gov.

Special Accomodations: Requests for sign language interpretation or other auxiliary aids should be directed to the Designated Federal Officer by February 10, 2022.

Eric Locklear,
Acting Chief Financial Officer/Administrative Officer, Office of Oceanic and Atmospheric Research, National Oceanic and Atmospheric Administration.

[FR Doc. 2022-02005 Filed 2-3-22; 8:45 am]

BILLING CODE 3510-KA-P